Title 3—

The President

Proclamation 8478 of February 24, 2010

American Red Cross Month, 2010

By the President of the United States of America

A Proclamation

From rebuilding former adversaries after World War II, to combating HIV/AIDS in Africa, to saving lives after the tragic earthquake in Haiti, the American people have an unmatched tradition of responding to challenges at home and abroad with compassion and generosity. This tradition reflects our Nation’s noblest ideals and has led people around the world to see the United States as a beacon of hope. During American Red Cross Month, we honor the organizations across our country that contribute to our Nation’s ongoing efforts to relieve human suffering.

Founded by Clara Barton in 1881, the American Red Cross has provided assistance and comfort to communities stricken by disasters large and small. Amidst the final months of World War I in 1918, President Woodrow Wilson first proclaimed “Red Cross Week” as a time for our citizens “to give generously to the continuation of the important work of relieving distress.” The American Red Cross continues to help ensure our communities are more ready and resilient in the face of future disasters. I urge all Americans to embrace our shared duty to better prepare ourselves, our families, and our neighbors against a wide range of emergencies; and to visit www.Ready.gov and www.CitizenCorps.gov.

Despite facing economic hardship at home, ordinary Americans are still contributing to humanitarian efforts worldwide. This year’s catastrophic earthquake in Haiti caused untold suffering, and the American people have responded with speed and kindness. Donations have poured into the American Red Cross and other relief organizations. On the ground in Haiti, American search-and-rescue teams have pulled survivors from the rubble, and volunteer medical professionals continue to treat victims and save lives.

Our Nation’s leadership relies upon our citizens who are motivated to act by our common humanity. This month, let us come together to celebrate the American spirit of generosity, and the dedicated individuals and organizations who keep that spirit alive.

NOW, THEREFORE, I, BARACK OBAMA, President of the United States of America and Honorary Chairman of the American Red Cross, by virtue of the authority vested in me by the Constitution and the laws of the United States, do hereby proclaim March 2010 as American Red Cross Month. I encourage all Americans to observe this month with appropriate programs, ceremonies, and activities, and by supporting the work of our Nation’s service and relief organizations.

IN WITNESS WHEREOF, I have hereunto set my hand this twenty-fourth day of February, in the year of our Lord two thousand ten, and of the Independence of the United States of America the two hundred and thirty-fourth.

[FR Doc. 2010-4360

Filed 2-26-10; 11:15 am]

Billing code 3195-W0-P